DEPARTMENT OF LABOR

Office of the Assistant Secretary for Administration and Management; Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary

Vice-Chair—Assistant Secretary for Administration and Management

Alternate Vice-Chair—Chief Human Capital Officer

Rotating Membership—Appointments Expire on 09/30/21

BLS Nancy Ruiz De Gamboa, Associate Commissioner for Administration

EBSA Amy Turner, Director, Health Plan Standards and Compliance Assistance

ETA Thomas Dowd, Deputy Assistant Secretary

ETA Nicholas Lalpuis, Regional Administrator, Dallas

ILAB Martha Newton, Deputy Undersecretary for International Labor Affairs

MSHA Patricia Silvey, Deputy Assistant Secretary

OASAM Geoffrey Kenyon, Director, Departmental Budget Center

OLMS Stephen Willertz, Director, Office of Enforcement and International Union Audits

OSHA Galen Blanton, Regional Administrator, Boston

OSHA Loren Sweatt, Deputy Assistant Secretary

SOL Kate O'Scannlain, Solicitor of Labor

VETS Ivan Denton, Director, National Programs

WHD Patrice Torres, Assistant Administrator, Office of Administration

FOR FURTHER INFORMATION CONTACT: Ms. Lucy Cunningham, Director, Office of Executive Resources, Room N2453, U.S. Department of Labor, Frances Perkins Building, 200 Constitution Ave. NW, Washington, DC 20210, telephone: (202) 693-6624.

Signed at Washington, DC, on the 17th day of October, 2018.
Bryan Slater,
Assistant Secretary for Administration, And Management.

[FR Doc. 2018-23062 Filed 10-22-18; 8:45 am]

BILLING CODE 4510-04-P